ENVIRONMENTAL PROTECTION AGENCY

[FRL-9928-75-OW]

Meeting of the National Drinking Water Advisory Council

AGENCY: Environmental Protection Agency (EPA).

ACTION: Notice of a public meeting.

SUMMARY: The U.S. Environmental Protection Agency (EPA) is announcing a meeting, via a webinar, of the National Drinking Water Advisory Council (Council), as authorized under the Safe Drinking Water Act. The purpose of the webinar is for the Lead and Copper Rule Working Group (LCRWG) to update the Council on the status of the LCRWG's draft report, which provides recommendations for revising the Lead and Copper Rule.

DATES: The webinar will be held on June 22, 2015, from 12:30 to 2:30 p.m., eastern time. Persons wishing to participate in the webinar must pre-register by June 17, 2015, as described in the SUPPLEMENTARY INFORMATION section.

ADDRESSES: For those who would like to attend in person, the meeting/webinar will be held in Room 2123 at EPA's William Jefferson Clinton East building, located at 1201 Constitution Avenue NW., Washington, DC 20004. All attendees must go through a metal detector, sign in with the security desk and show government-issued photo identification to enter the government building.

FOR FURTHER INFORMATION CONTACT: More information is available at the following EPA Web site: http://water.epa.gov/drink/ndwac/lcr.cfm. For questions about this webinar, please contact Michelle Schutz, Designated Federal Officer for the EPA's Office of Ground Water and Drinking Water; telephone (202) 564-7374, or email at schutz.michelle@epa.gov.

SUPPLEMENTARY INFORMATION: To participate in the webinar, you must pre-register by June 17, 2015, at http://epandwacwebinar.eventbrite.com. If you would like to attend in person, please contact Michelle Schutz at (202) 564-7374 or by email at schutz.michelle@epa.gov on or before June 17, 2015. To ensure adequate time for public involvement, individuals or organizations interested in presenting an oral statement during the webinar should notify Michelle Schutz no later than June 17, 2015. It is preferred that only one person present a statement on behalf of a group or organization.

How can I get a copy of the webinar materials? The webinar materials will be provided for those who have registered for the webinar. EPA will also post the materials on the Agency's Web site for persons who are unable to participate in the webinar. Please note, the posting of these materials could occur after the webinar.

Special Accommodations: To request special accommodations for individuals with disabilities, please contact Michelle Schutz at (202) 564-7374, or by email at schutz.michelle@epa.gov at least five business days prior to the webinar to allow time to process your request.

Dated: May 29, 2015.
Peter Grevatt,
Director, Office of Ground Water and Drinking Water.

[FR Doc. 2015-13677 Filed 6-5-15; 8:45 am]

BILLING CODE 6560-50-P